DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the CSAP Underage Drinking Prevention Public Education Campaign—New—SAMHSA's Center for Substance Abuse Prevention (CSAP) is launching the Underage Drinking Prevention Public Education Campaign, which is a public education campaign designed to educate 9-13 year old children about the harms of alcohol use and to support parents as they monitor and participate in their children's activities. The ultimate goal of the initiative is to reduce underage drinking among young people. Elements of the campaign include media messages (such as public service announcements on television and radio) and education of children and their adult caregivers through materials and community events.

To determine the likely effectiveness of the campaign, CSAP is planning to conduct an evaluation. The evaluation will determine whether the campaign can produce measurable change in communities that receive training and technical assistance on implementing the campaign, plus funds to customize materials for those communities. The evaluation will assess change in knowledge and attitudes among those exposed to the campaign. Four treatment and four comparison communities will be selected for study. Data for the evaluation will be collected through a baseline and follow-up telephone survey of adult-child dyads. The estimated annual burden hours are as follows:

Data collection instrument | Number of respondents | Responses per respondent | Hours per response | Total annual burden (hrs.)
Baseline telephone survey of random sample of adult-child dyads | 3,200 | 1 | 0.3 | 960
Follow-up telephone survey of random sample of adult-child dyads | 3,200 | 1 | 0.3 | 960
Total | 6,400 |  |  | 1,920

Send comments to Nancy Pearce, SAMHSA Reports Clearance Officer, Room 16-105, Parklawn Building, 5600 Fishers Lane, Rockville, MD 20857. Written comments should be received within 60 days of this notice.

Dated: April 3, 2002.
Richard Kopanda,
Executive Officer, SAMHSA.

[FR Doc. 02-8490 Filed 4-8-02; 8:45 am]

BILLING CODE 4162-20-P